DEPARTMENT OF TRANSPORTATION

Federal Aviation Administration

14 CFR Part 71

[Docket No. FAA-2011-1314; Airspace Docket No. 11-AWP-18]

Amendment of Class E Airspace; Willcox, AZ, and Revocation of Class E Airspace; Cochise, AZ

AGENCY: Federal Aviation Administration (FAA), DOT.

ACTION: Final rule.

SUMMARY: This action modifies Class E airspace at Willcox, AZ, and removes Class E airspace at Cochise, AZ. The airspace designation listed as Cochise, AZ, is combined with Cochise County Airport, Willcox, AZ. Controlled airspace is necessary to accommodate aircraft using Area Navigation (RNAV) Global Positioning System (GPS) standard instrument approach procedures at Cochise County Airport, Willcox, AZ. Decommissioning of the Cochise VHF Omni-Directional Radio Range Tactical Air Navigation Aid (VORTAC) has made this action necessary for the safety and management of aircraft operations at the airport.

DATES: Effective date, 0901 UTC, May 31, 2012. The Director of the Federal Register approves this incorporation by reference action under 1 CFR Part 51, subject to the annual revision of FAA Order 7400.9 and publication of conforming amendments.

FOR FURTHER INFORMATION CONTACT: Eldon Taylor, Federal Aviation Administration, Operations Support Group, Western Service Center, 1601 Lind Avenue SW., Renton, WA 98057; telephone (425) 203-4537.

SUPPLEMENTARY INFORMATION:

History

On January 10, 2012, the FAA published in the Federal Register a notice of proposed rulemaking to amend controlled airspace at Willcox, AZ, and remove the controlled airspace designation at Cochise, AZ (77 FR 1428). Interested parties were invited to participate in this rulemaking effort by submitting written comments on the proposal to the FAA. One comment was received. The commenter agreed with the airspace change but was concerned about the increased air traffic. This airspace amendment will not increase the air traffic at Cochise County Airport. The Cochise, AZ airspace designation is merely being incorporated into the existing Willcox, AZ airspace designation.

Class E airspace designations are published in paragraph 6005, of FAA Order 7400.9V dated August 9, 2011, and effective September 15, 2011, which is incorporated by reference in 14 CFR Part 71.1. The Class E airspace designations listed in this document will be published subsequently in that Order.

The Rule

This action amends Title 14 Code of Federal Regulations (14 CFR) part 71 by modifying Class E airspace extending upward from 700 feet above the surface, at Cochise County Airport, Willcox, AZ. Controlled airspace is necessary to accommodate IFR aircraft executing RNAV (GPS) standard instrument approach procedures at the airport. This action removes the Cochise, AZ airspace designation extending upward from 1,200 feet above the surface and combines it with the existing Cochise County Airport, Willcox, AZ, designation. Decommissioning of the Cochise VORTAC has made this action necessary, and enhances the safety and management of aircraft operations within the National Airspace System.

The FAA has determined this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified this rule, when promulgated, will not have a significant economic impact on a substantial number of small entities under the criteria of the Regulatory Flexibility Act. The FAA's authority to issue rules regarding aviation safety is found in Title 49 of the U.S. Code. Subtitle 1, Section 106 discusses the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it modifies controlled airspace at Cochise County Airport, Willcox, AZ, and removes the airspace designation for the Cochise, AZ VORTAC.

List of Subjects in 14 CFR Part 71

Airspace, Incorporation by reference, Navigation (air).

Adoption of the Amendment

In consideration of the foregoing, the Federal Aviation Administration amends 14 CFR part 71 as follows:

PART 71—DESIGNATION OF CLASS A, B, C, D AND E AIRSPACE AREAS; AIR TRAFFIC SERVICE ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR part 71.1 of the Federal Aviation Administration Order 7400.9V, Airspace Designations and Reporting Points, dated August 9, 2011, and effective September 15, 2011 is amended as follows:

Paragraph 6005 Class E airspace areas extending upward from 700 feet or more above the surface of the earth.

* * * * *

AWP AZ E5 Willcox, AZ [Modified]

Cochise County Airport, AZ

(Lat. 32°14′44″ N., long. 109°53′41″ W.)

That airspace extending upward from 700 feet above the surface within 6.5-mile radius of the Cochise County Airport and within 5 miles each side of the 225° bearing of the Cochise County Airport extending from the 6.5-mile radius to 14.5 miles southwest of the airport, and within 5.5 miles southeast and 4.5 miles northwest of the 055° bearing of the Cochise County Airport extending from the 6.5-mile radius to 14.5 miles northeast of the airport. That airspace extending upward from 1,200 feet above the surface bounded by a line beginning at lat. 32°22′30″ N., long. 110°00′02″ W.; to lat. 32°22′00″ N., long. 109°57′30″ W.; to lat. 32°30′00″ N., long. 109°54′00″ W.; to lat. 32°22′40″ N., long. 109°25′00″ W.; to lat. 32°15′30″ N., long. 109°27′30″ W.; to lat. 32°14′25″ N., long. 109°25′22″ W.; to lat. 32°10′20″ N., long. 109°25′22″ W.; to lat. 32°10′20″ N., and the Arizona/New Mexico border, thence south along the Arizona/New Mexico border to lat. 31°52′40″ N.; to lat. 31°54′00″ N., long. 109°25′27″ W.; to lat. 31°57′05″ N., long. 109°55′02″ W.; to lat. 32°07′00″ N., long. 109°54′02″ W.; to lat. 32°07′30″ N., long. 110°00′02″ W., thence to the point of beginning.

Paragraph 6005 Class E airspace areas extending upward from 700 feet or more above the surface of the earth.

* * * * *

AWP AZ E5 Cochise, AZ [Removed]

Issued in Seattle, Washington, on March 26, 2012.
Robert Henry,
Acting Manager, Operations Support Group, Western Service Center.

[FR Doc. 2012-7933 Filed 4-2-12; 8:45 am]

BILLING CODE 4910-13-P